DEPARTMENT OF TRANSPORTATION

Federal Aviation Administration

14 CFR Part 39

[Docket No. 2003-NM-83-AD; Amendment 39-13767; AD 2004-16-11]

RIN 2120-AA64

Airworthiness Directives; Boeing Model 757 and 767 Series Airplanes

AGENCY: Federal Aviation Administration, DOT.

ACTION: Final rule.

SUMMARY: This amendment adopts a new airworthiness directive (AD), applicable to certain Boeing Model 757 and 767 series airplanes, that requires inspection to determine the serial number of the hydraulic pump in the ram air turbine (RAT), and corrective action if necessary. This action is necessary to prevent a cracked hanger arm of the hydraulic pump of the RAT that can fracture under load and lead to failure of the RAT to provide hydraulic power to the primary flight control system during an emergency when both engines have failed. Loss of hydraulic power to the primary flight controls could result in loss of control of the airplane. This action is intended to address the identified unsafe condition.

DATES: Effective September 13, 2004.

The incorporation by reference of certain publications listed in the regulations is approved by the Director of the Federal Register as of September 13, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Kenneth Frey, Aerospace Engineer, Systems and Equipment Branch, ANM-130S, FAA, Seattle Aircraft Certification Office, 1601 Lind Avenue, SW., Renton, Washington 98055-4056; telephone (425) 917-6468; fax (425) 917-6590.

SUPPLEMENTARY INFORMATION: A proposal to amend part 39 of the Federal Aviation Regulations (14 CFR part 39) to include an airworthiness directive (AD) that is applicable to certain Boeing Model 757 and 767 series airplanes was published in the Federal Register on February 6, 2004 (69 FR 5785). That action proposed to require inspection to determine the serial number of the hydraulic pump in the ram air turbine (RAT), and corrective action if necessary.

Comments

Interested persons have been afforded an opportunity to participate in the making of this amendment. Due consideration has been given to the comments received.

Supportive Comments

Two commenters support the proposed AD.

Request To Allow Review of Maintenance Records

Two commenters request that the FAA revise the proposed AD to allow a records search to verify the serial number of a hydraulic pump. One commenter states that using paper/computer component and aircraft installed records for verification would avoid the unnecessary replacement of RAT hydraulic pumps that might be missing data plates. The other commenter states that while complying with Boeing Special Attention Service Bulletin 757-29-0060, dated September 12, 2002; Boeing Special Attention Service Bulletin 757-29-0061, dated September 12, 2002; and Parker Service Bulletin 6513902-29-305, dated November 30, 2001, an operator “* * * controlled its RAT hydraulic pump systems ensuring configuration control that prevents the installation of affected, non-reworked [s]erial [n]umbers,” and that “[a] maintenance records review will avoid the duplication of previously accomplished [s]erial [n]umber inspections.” The same commenter also asserts that if an operator tracks the installed RAT hydraulic pump by serial number, that operator should be allowed to use its maintenance records to show compliance with the proposed AD.

We agree and have added a new statement to paragraph (b) of this AD, which allows review of airplane maintenance records, instead of an inspection, if the serial number of the hydraulic pump can be positively determined from that review.

Request To Include Manufacturer/Installation Dates of Hangar Arms

Two commenters request that we “include the manufacture dates of the discrepant hangar arms and/or installation dates of the hydraulic pump arms.” One commenter assumes that since Parker Service Bulletin 6513902-29-305 was issued in November of 2001, the discrepant hanger arms were manufactured close to this date. The same commenter also states that 37 of its 41 RAT installations were installed on-wing prior to 1996, with 29 units being the original installations since delivery from the airplane manufacturer. Furthermore, the commenter asserts that, should the “discrepant unit dates” be included in the proposed AD, a large portion of its RAT installations might be exempt, since it could eliminate RAT hydraulic pump components and aircraft installations that have been in its system prior to those dates. The other commenter asserts that including the manufacture/installation date range for the affected parts would narrow the scope of the proposed AD and help minimize the impact of the proposed AD on operators, while maintaining an equivalent level of safety.

We do not agree with the request to include the manufacture and/or installation dates of the discrepant hangar arms for the affected hydraulic pumps. We find that it is unnecessary to include either of these dates for the hangar arms, since the Parker service bulletin identifies the serial numbers of the affected hydraulic pumps. These serial numbers are unique to the affected hydraulic pumps and are known to contain the discrepant hangar arms. Therefore, no change is needed to this AD in this regard.

Conclusion

We have carefully reviewed the available data, including the comments that have been submitted, and determined that air safety and the public interest require adopting the AD with the changes described previously. We have determined that these changes will neither increase the economic burden on any operator nor increase the scope of the AD.

Cost Impact

There are approximately 1,851 airplanes of the affected design in the worldwide fleet. We estimate that 1,038 airplanes of U.S. registry will be affected by this AD.

We estimate it will take approximately 1 work hour per airplane to accomplish the required inspection, and that the average labor rate is $65 per work hour. Based on these figures, the cost impact of the inspection on U.S. operators is estimated to be $67,470, or $65 per airplane.

We also estimate that it will take approximately 4 work hours per airplane (affecting approximately 154 airplanes) to accomplish the replacement of the hydraulic pump, if required, and that the average labor rate is $65 per work hour. Based on these figures, the cost impact of the replacement on U.S. operators is estimated to be $260 per airplane.

We also estimate that it will take approximately 5 work hours per airplane (affecting approximately 154 airplanes) to accomplish the rework and reidentification of the hydraulic pump, if required, and that the average labor rate is $65 per work hour. Based on these figures, the cost impact of the rework and reidentification on U.S. operators is estimated to be $325 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-16-11 Boeing: Amendment 39-13767. Docket 2003-NM-83-AD.

Applicability: Model 757-200, -200CB, -200PF, and -300 series airplanes, line numbers 1 through 998 inclusive; and Model 767-200, -300, -300F, and -400ER series airplanes, line numbers 1 through 869 inclusive; certificated in any category.

Compliance: Required as indicated, unless accomplished previously.

To prevent a cracked hanger arm of the hydraulic pump of the ram air turbine (RAT) that can fracture under load and lead to failure of the RAT to provide hydraulic power to the primary flight control system during an emergency when both engines have failed, which could result in loss of hydraulic power to the primary flight controls and consequent loss of control of the airplane; accomplish the following:

Service Bulletin Reference

(a) The term “service bulletin,” as used in this AD, means the Accomplishment Instructions of the following service bulletins in Table 1 of this AD, as applicable:

Table 1.—Service Bulletins
Model | Service bulletin | Date
Model 757-200, -200CB, and -200PF series airplanes | Boeing Special Attention Service Bulletin 757-29-0060 | September 12, 2002.
Model 757-300 series airplanes | Boeing Special Attention Service Bulletin 757-29-0061 | September 12, 2002.
Model 767-200, -300 and -300F series airplanes | Boeing Special Attention Service Bulletin 767-29-0103 | September 12, 2002.
Model 767-400ER series airplanes | Boeing Special Attention Service Bulletin 767-29-0106 | September 12, 2002.

Note 1: These service bulletins refer to Parker Service Bulletin 6513902-29-305, dated November 30, 2001, as an additional source of service information for the list of affected hydraulic pump serial numbers and for accomplishment of the reworking and reidentifying of the existing hydraulic pump for Model 757 and 767 series airplanes.

Inspection of Serial Number

(b) Within 36 months after the effective date of this AD, do an inspection to determine the serial number of the hydraulic pump in the RAT, per the service bulletin. Instead of inspecting the hydraulic pump in the RAT, a review of airplane maintenance records is acceptable if the serial number of the hydraulic pump can be positively determined from that review.

Corrective Actions

(c) If the hydraulic pump is found to have an affected serial number during the inspection or review of airplane maintenance records required by paragraph (b) of this AD, within 36 months after the effective date of this AD, do the corrective action(s) in either paragraph (c)(1) or (c)(2) of this AD.

(1) Replace the hydraulic pump with a serviceable hydraulic pump that is outside the range of the affected serial numbers, per the service bulletin.

(2) Rework and reidentify the hydraulic pump, per the service bulletin.

Part Installation

(d) As of the effective date of this AD, no person shall install on any airplane a RAT hydraulic pump, Parker part number (P/N) 65139-02 or Hamilton Sunstrand P/N 5903420, with an affected serial number as listed in Parker Service Bulletin 6513902-29-305, dated November 30, 2001, unless it has been modified per paragraph (c)(2) of this AD.

Alternative Methods of Compliance

(e) In accordance with 14 CFR 39.19, the Manager, Seattle Aircraft Certification Office, FAA, is authorized to approve alternative methods of compliance for this AD.

Incorporation by Reference

(f) Unless otherwise specified in this AD, the actions shall be done in accordance with the applicable service bulletin listed in Table 2 of this AD:

Table 2.—Material Incorporated by Reference
Service bulletin | Date
Boeing Special Attention Service Bulletin 757-29-0060 | September 12, 2002.
Boeing Special Attention Service Bulletin 757-29-0061 | September 12, 2002.
Boeing Special Attention Service Bulletin 767-29-0103 | September 12, 2002.
Boeing Special Attention Service Bulletin 767-29-0106 | September 12, 2002.

This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(g) This amendment becomes effective on September 13, 2004.

Issued in Renton, Washington, on July 29, 2004.
Ali Bahrami,
Manager, Transport Airplane Directorate, Aircraft Certification Service.

[FR Doc. 04-17982 Filed 8-6-04; 8:45 am]

BILLING CODE 4910-13-P